Title 3—

The President

Memorandum of July 23, 2002

Delegation of Authority With Respect to Concluding Amendments to the July 12, 1999, Agreement Concerning Trade in Certain Steel Products From the Russian Federation

Memorandum for the Secretary of Commerce

By the authority vested in me as President by the Constitution and the laws of the United States, including section 301 of title 3, United States Code, it is hereby ordered that the Secretary of Commerce is designated and empowered to exercise, following consultations with the United States Trade Representative and other agencies as appropriate, the authority vested in the President to conclude amendments to the July 12, 1999, Agreement Concerning Trade in Certain Steel Products from the Russian Federation in accordance with Article XI of the 1990 Agreement on Trade Relations between the United States of America and the Russian Federation, and title IV of the Trade Act of 1974. The Secretary may exercise such authority without approval, ratification, or other action of the President.

As the Secretary of Commerce may direct, the Assistant Secretary for Import Administration is authorized to exercise the authority vested in the Secretary by this memorandum.

You are authorized and directed to publish this memorandum in the Federal Register.

B

THE WHITE HOUSE,

Washington, July 23, 2002.

[FR Doc. 02-19137

Filed 7-25-02; 8:45 am]

Billing code 3510-BP-M